DEPARTMENT OF HEALTH AND HUMAN SERVICES

Centers for Disease Control and Prevention

[Program Announcement 04145]

Enhancing State Capacity To Address Child and Adolescent Health Through Violence Prevention; Notice of Availability of Funds—Amendment

A notice announcing the availability of fiscal year (FY) 2004 funds for a cooperative agreement entitled, “Enhancing State Capacity to Address Child and Adolescent Health Through Violence Prevention” was published in the Federal Register Friday, May 14, 2004, Volume 69, Number 94, pages 26829-26833. The notice is amended as follows:

• Page 26829, first column, change Application Deadline Date to June 23, 2004.

• Page 26830, second column, change Anticipated Award Date to September 1, 2004.

• Page 26831, first column, section, “IV.3. Submission Dates and Times,” change Application Deadline Date to June 23, 2004.

Dated: May 19, 2004.
William P. Nichols,
Acting Director, Procurement and Grants Office, Centers for Disease Control and Prevention.

[FR Doc. 04-11751 Filed 5-24-04; 8:45 am]

BILLING CODE 4163-18-P